DEPARTMENT OF COMMERCE

International Trade Administration

[C-570-913]

Certain New Pneumatic Off-The-Road Tires From the People's Republic of China: Amended Final Results of Countervailing Duty Administrative Review, 2015

AGENCY: Enforcement and Compliance, International Trade Administration, Department of Commerce.

SUMMARY: The Department of Commerce (Commerce) is amending the final results of the countervailing duty administrative review of certain new pneumatic off-the-road tires from the People's Republic of China (China) to correct certain ministerial errors. The period of review (POR) is January 1, 2015, through December 31, 2015.

DATES: Applicable July 11, 2018.

FOR FURTHER INFORMATION CONTACT: Chien-Min Yang, AD/CVD Operations, Office VII, Enforcement and Compliance, International Trade Administration, U.S. Department of Commerce, 1401 Constitution Avenue NW, Washington, DC 20230; telephone: 202-482-5484.

SUPPLEMENTARY INFORMATION:

Background

In accordance with sections 751(a)(1) of the Tariff Act of 1930, as amended (the Act), and 19 CFR 351.221(b)(5), on April 13, 2018, Commerce published its final results in the countervailing duty administrative review of certain new phenumatic off-the-road tires from China.¹ Guizhou Tyre Co., Ltd. and its affiliate, Guizhou Tyre Import and Export Co., Ltd. (collectively, Guizhou Tyre) timely filed a ministerial error allegation on April 23, 2018, claiming Commerce had improperly failed to include revised land values accepted at verification as minor corrections in the final calculations.²

¹ See Certain New Pneumatic Off-the-Road Tires from the People's Republic of China: Final Results of Countervailing Duty Administrative Review; 2015, 83 FR 16055 (April 13, 2018) (Final Results) and accompanying Issues and Decision Memorandum (Final Results IDM).

² See Guizhou Tyre's letter to Commerce, “Ministerial Error Submission of Guizhou Tyre Certain New Pneumatic Off-the-Road Tires from China,” April 23, 2018 (Guizhou Tyre's Ministerial Error Allegation).

On May 2, 2018, Guizhou Tyre filed its complaint with the U.S. Court of International Trade (CIT) challenging the Final Results. On June 19, 2018, the United States sought leave from the CIT to address the ministerial error allegation and a related issue concerning a separate minor correction accepted at verification. On June 20, 2018, the court granted the United States' request.

Scope of the Order

The products covered by the scope are new pneumatic tires designed for off-the-road (OTR) and off-highway use. The subject merchandise is currently classifiable under Harmonized Tariff Schedule of the United States (HTSUS) subheadings: 4011.20.10.25, 4011.20.10.35, 4011.20.50.30, 4011.20.50.50, 4011.70.0010, 4011.62.00.00, 4011.80.1020, 4011.90.10, 4011.70.0050, 4011.80.1010, 4011.80.1020, 4011.80.2010, 4011.80.2020, 4011.80.8010, and 4011.80.8020. While HTSUS subheadings are provided for convenience and customs purposes, our written description of the scope, which is contained in the Issues and Decision Memorandum accompanying the Final Results, is dispositive.³

³ For a full description of the scope of the order, see Final Results IDM.

Ministerial Errors

Section 751(h) of the Act, and 19 CFR 351.224(f) defines a “ministerial error” as an error “in addition, subtraction, or other arithmetic function, clerical error resulting from inaccurate copying, duplication, or the like, and any other similar type of unintentional error which the Secretary considers ministerial.” Commerce has now determined that Guizhou Tyre's alleged error is a ministerial error under section 751(h) of the Act and 19 CFR 351.224(f). Specifically, we find that not incorporating revised values regarding the total price paid for certain parcels of land, which were accepted as minor corrections and verified at verification, in our final calculations is an inadvertent omission within the meaning of “ministerial error.” We have also determined that we made an additional ministerial error by inadvertently omitting revised loan interest payment data submitted by Guizhou Tyre as a minor correction at verification. To correct these errors, we are amending Guizhou Tyre's subsidy rate for its land-use rights program rate and its subsidy rate for its government policy lending program. See the Response to Ministerial Error Allegations for the revised program rates.⁴ These changes result in a change to the net subsidy rate for Guizhou Tyre. Similarly, because the subsidy rate for the non-selected companies in Final Results ⁵ was based on Guizhou Tyre's net subsidy rate, these changes also result in a change to the subsidy rate for the non-selected companies. For a complete discussion of the errors at issue, see the Response to Ministerial Error Allegations. The revised net subsidy rates are provided below.

⁴ See Memorandum to the file, “Response to Ministerial Error Allegations in the Final Results,” dated concurrently with this notice.

⁵ See Final Results, 83 FR at 16055.

Amended Final Results

As a result of correcting the ministerial errors, we determine that Guizhou Tyre's, Xuzhou Xugong's and the non-selected companies' total net countervailable subsidy rates for the period January 1, 2015, through December 31 2015, are as follows:

Manufacturer/exporter | Subsidy rate (percent ad valorem)
Guizhou Tyre Co., Ltd. and/or Guizhou Tyre Import and Export Co., Ltd | 31.48
Non Selected Companies ⁶ | 31.48

Assessment Rates/Cash Deposits

Normally Commerce would issue appropriate assessment instructions to U.S. Customs and Border Protection (CBP) 15 days after the date of publication of the amended final results of review. However, as noted above, Guizhou Tyre has filed its complaint with the CIT challenging the Final Results on May 8, 2018, and on May 8, and June 1, 2018, the U.S. Court of International Trade preliminarily enjoined liquidation of certain entries that are subject to the Final Results.⁷ Accordingly, Commerce will not instruct CBP to assess countervailing duties on those enjoined entries pending resolution of the associated litigation.

⁶ The appendix provides a list of the non-selected companies that are assigned this rate.

⁷ The U.S. Court of International Trade issued the preliminary injunctions in case numbers 18-00100 and 18-00108.

Commerce also intends to instruct CBP to collect cash deposits of estimated countervailing duties, in the amount shown above for the companies listed above, on shipments of subject merchandise entered, or withdrawn from warehouse, for consumption on or after April 13, 2017, the date of publication of the Final Results. For all non-reviewed firms, we will instruct CBP to continue to collect cash deposits at the most-recent company-specific or all-others rate applicable to the company, as appropriate. These cash deposit requirements, when imposed, shall remain in effect until further notice.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Disclosure

We will disclose the calculations performed for these amended final results to interested parties within five business days of the date of the publication of this notice in accordance with 19 CFR 351.224(b).

We are issuing and publishing these results in accordance with sections 751(h) and 777(i)(1) of the Act, and 19 CFR 351.224(e)

Gary Taverman,
Deputy Assistant Secretary, for Antidumping and Countervailing Duty Operations, performing the non-exclusive functions and duties of the Assistant Secretary for Enforcement and Compliance.

Appendix—Non-Selected Companies

1. Aeolus Tyre Co., Ltd.

2. Air Sea Transport Inc

3. Air Sea Worldwide Logistics Ltd

4. AM Global Shipping Lines

5. Apex Maritime Co Ltd

6. Apex Maritime Thailand Co Ltd

7. BDP Intl LTD China

8. Beijing Kang Jie Kong Intl Cargo Agent Co Ltd

9. C&D Intl Freight Forward Inc

10. Caesar Intl Logistics Co Ltd

11. Caterpillar & Paving Products Xuzhou Ltd

12. CH Robinson Freight Services China LTD

13. Changzhou Kafurter Machinery Co Ltd

14. Cheng Shin Rubber (Xiamen) Ind Ltd

15. China Intl Freight Co Ltd

16. Chonche Auto Double Happiness Tyre Corp Ltd

17. City Ocean Logistics Co Ltd

18. Consolidator Intl Co Ltd

19. Crowntyre Industrial Co. Ltd

20. CTS Intl Logistics Corp

21. Daewoo Intl Corp

22. De Well Container Shipping Inc

23. Double Coin Holdings Ltd; Double Coin Group Shanghai Donghai Tyre Co., Ltd;

and Double Coin Group Rugao Tyre Co., Ltd. (collectively “Double Coin”)

24. England Logistics (Qingdao) Co Ltd

25. Extra Type Co Ltd

26. Fedex International Freight Forwarding Services Shanghai Co Ltd

27. FG Intl Logistics Ltd

28. Global Container Line

29. Honour Lane Shipping

30. Innova Rubber Co., Ltd.

31. Inspire Intl Enterprise Co Ltd

32. JHJ Intl Transportation Co

33. Jiangsu Feichi Co. Ltd.

34. Kenda Rubber (China) Co Ltd

35. KS Holding Limited/KS Resources Limited

36. Laizhou Xiongying Rubber Industry Co., Ltd.

37. Landmax Intl Co Ltd

38. LF Logistics China Co Ltd

39. Mai Shandong Radial Tyre Co., Ltd.

40. Maine Industrial Tire LLC

41. Master Intl Logistics Co Ltd

42. Melton Tire Co. Ltd

43. Merityre Specialists Ltd

44. Mid-America Overseas Shanghai Ltd

45. Omni Exports Ltd

46. Orient Express Container Co Ltd

47. Oriental Tyre Technology Limited

48. Pudong Prime Intl Logistics Inc

49. Q&J Industrial Group Co Ltd

50. Qingdao Aotai Rubber Co Ltd

51. Qingdao Apex Shipping

52. Qingdao Chengtai Handtruck Co Ltd

53. Qingdao Chunangtong Founding Co Ltd

54. Qingdao Free Trade Zone Full-World International Trading Co., Ltd.

55. Qingdao Haojia (Xinhai) Tyre Co.

56. Qingdao Haomai Hongyi Mold Co Ltd

57. Qingdao J&G Intl Trading Co Ltd

58. Qingdao Jinhaoyang International Co. Ltd

59. Qingdao Kaoyoung Intl Logistics Co Ltd

60. Qingdao Milestone Tyres Co Ltd.

61. Qingdao Nexen Co Ltd

62. Qingdao Qihang Tyre Co.

63. Qingdao Qizhou Rubber Co., Ltd.

64. Qingdao Shijikunyuan Intl Co Ltd

65. Qingdao Sinorient International Ltd.

66. Qingdao Taifa Group Imp. And Exp. Co., Ltd./Qingdao Taifa Group Co., Ltd.

67. Qingdao Wonderland

68. Qingdao Zhenhua Barrow Manufacturing Co., Ltd.

69. Rich Shipping Company

70. RS Logistics Ltd

71. Schenker China Ltd

72. Seastar Intl Enterprise Ltd

73. SGL Logistics South China Ltd

74. Shandong Huitong Tyre Co., Ltd.

75. Shandong Linglong Tyre Co., Ltd.

76. Shandong Taishan Tyre Co. Ltd.

77. Shanghai Cartec Industrial & Trading Co Ltd

78. Shanghai Grand Sound Intl Transportation Co Ltd

79. Shanghai Hua Shen Imp & Exp Co Ltd

80. Shanghai Part-Rich Auto Parts Co Ltd

81. Shanghai TCH Metals & Machinery Co Ltd

82. Shantou Zhisheng Plastic Co Ltd

83. Shiyan Desizheng Industry & Trade Co., Ltd.

84. Techking Tires Limited

85. Thi Group (Shanghai) Ltd

86. Tianjin Leviathan International Trade Co., Ltd.

87. Tianjin United Tire & Rubber International Co., Ltd.

88. Tianjin Wanda Tyre Group Co.

89. Tianshui Hailin Import and Export Corporation

90. Tiremart Qingdao Inc

91. Translink Shipping Inc

92. Trelleborg Wheel Systems (Xingtai) China, Co. Ltd.

93. Trelleborg Wheel Systems Hebei Co

94. Triangle Tyre Co. Ltd.

95. Universal Shipping Inc

96. UTI China Ltd

97. Weifang Jintongda Tyre Co., Ltd.

98. Weihai Zhongwei Rubber Co., Ltd.

99. Weiss-Rohlig China Co Ltd

100. World Bridge Logistics Co Ltd

101. World Tyres Ltd.

102. Xiamen Ying Hong Import & Export Trade Co Ltd

103. Yoho Holding

104. Zheijiang Wheel World Industrial Co Ltd

105. Zhejiang Xinchang Zhongya Industry Co., Ltd.

106. Zhongce Rubber Group Company Limited

107. ZPH Industrial Ltd

[FR Doc. 2018-14828 Filed 7-10-18; 8:45 am]

BILLING CODE 3510-DS-P